DEPARTMENT OF COMMERCE

National Oceanic and Atmospheric Administration

RIN 0648-XG757

Mid-Atlantic Fishery Management Council (MAFMC); Public Meeting; Addendum

AGENCY: National Marine Fisheries Service (NMFS), National Oceanic and Atmospheric Administration (NOAA), Commerce.

ACTION: Notice of an addendum to a public meeting.

SUMMARY: The Mid-Atlantic Fishery Management Council's (Council) Scientific and Statistical Committee (SSC) will hold a meeting.

DATES: The meeting will be held on Thursday, February 21, 2019, from 10 a.m. to 4 p.m. See SUPPLEMENTARY INFORMATION for agenda details.

ADDRESSES: The meeting will take place over webinar with a telephone-only connection option. Details on how to connect to the webinar by computer and by telephone will be available at: http://www.mafmc.org/ssc.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The original notice published in the Federal Register on February 6, 2019 (84 FR 2175). This notice adds agenda items to the meeting agenda.

The purpose of this meeting is to make multi-year acceptable biological catch (ABC) recommendations for summer flounder based on the results of the recently completed benchmark stock assessment. The SSC will recommend revised 2019 and new 2020-21 ABC specifications. The SSC will also review and discuss recent activities by the Northeast Trawl Advisory Panel (NTAP). In addition, the following agenda items have been added and will be addressed by the SSC: Recommend interim 2020 ABC specifications for scup, black sea bass and bluefish. The SSC may take up any other business as necessary.

A detailed agenda and background documents will be made available on the Council's website (www.mafmc.org) prior to the meeting.

Special Accommodations

The meeting is physically accessible to people with disabilities. Requests for sign language interpretation or other auxiliary aid should be directed to M. Jan Saunders, (302) 526-5251, at least 5 days prior to the meeting date.

Dated: February 8, 2019.
Tracey L. Thompson,
Acting Deputy Director, Office of Sustainable Fisheries, National Marine Fisheries Service.

[FR Doc. 2019-02170 Filed 2-12-19; 8:45 am]

BILLING CODE 3510-22-P